DEPARTMENT OF COMMERCE

International Trade Administration

[C-533-929]

Ceramic Tile from India: Postponement of Preliminary Determination in the Countervailing Duty Investigation

AGENCY: Enforcement and Compliance, International Trade Administration, Department of Commerce

DATES: Applicable June 28, 2024.

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Background

On May 9, 2024, the Department of Commerce (Commerce) initiated a countervailing duty (CVD) investigation of imports of ceramic tile from India.¹ Currently, the preliminary determination is due no later than July 15, 2024.²

¹ See Ceramic Tile from India: Initiation of Countervailing Duty Investigation, 89 FR 42841 (May 16, 2024).

² Because the current deadline for these final results falls on a weekend (i.e., Saturday, July 13, 2024), the deadline became the next business day (i.e., Monday, July 15, 2024). See Notice of Clarification: Application of “Next Business Day” Rule for Administrative Determination Deadlines Pursuant to the Tariff Act of 1930, As Amended, 70 FR 24533 (May 10, 2005).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is The Coalition for Fair Trade in Ceramic Tile.

On June 17, 2024, the petitioner submitted a timely request that Commerce postpone this preliminary CVD determination.⁴ The petitioner stated that it requests postponement to allow Commerce to properly conduct its investigation and address certain complicated issues.⁵ In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., September 16, 2024. Pursuant to section 705(a)(1) of the Act and 19 CFR 351.210(b)(1), the deadline for the final determination of this investigation will continue to be 75 days after the date of the preliminary determination.

⁴ See Petitioner's Letter, “Petitioner's Request for Postponement of the Preliminary Determination,” dated June 17, 2024.

⁵ Id.

Notification to Interested Parties

This notice is issued and published pursuant to section 703(c)(2) of the Act and 19 CFR 351.205(f)(1).

Dated: June 24, 2024.
Ryan Majerus,
Deputy Assistant Secretary for Policy and Negotiations, performing the non-exclusive functions and duties of the Assistant Secretary for Enforcement and Compliance.

[FR Doc. 2024-14313 Filed 6-27-24; 8:45 am]

BILLING CODE 3510-DS-P